DEPARTMENT OF JUSTICE

Notice of Lodging Proposed Consent Decree

In accordance with Departmental Policy, 28 CFR 50.7, notice is hereby given that a proposed Consent Decree in United States v. MasTec, Inc. and Coos County, Oregon, No. 06-6071-HO (D. Or.), was lodged with the United States District Court for the District of Oregon on April 4, 2008.

This proposed Consent Decree concerns a complaint filed by the United States against Coos County, Oregon pursuant to Section 301(a) of the Clean Water Act, 33 U.S.C. 1311(a), to obtain, among other things, injunctive relief from and to impose civil penalties against Coos County for violating the Clean Water Act by discharging pollutants in violation of a permit or without a permit into waters of the United States. The proposed Consent Decree resolves the allegations against Coos County by requiring Coos County to restore the impacted areas, to pay a civil penalty, and to perform supplemental environmental projects.

The Department of Justice will accept written comments relating to this proposed Consent Decree for thirty (30) days from the date of publication of this Notice. Please address comments to Kent E. Hanson, Environmental Defense Section, P.O. Box 23986, Washington, DC 20026-3986, and refer to United States v. Coos County, Oregon, DJ #90-5-1-1-17191.

The proposed Consent Decree may be examined at the Clerk's Office, United States District Court for the District of Oregon, Wayne L. Morse US Courthouse, 405 East Eighth Avenue, Room 2100, Eugene, OR 97401. In addition, the proposed Consent Decree may be viewed at http://www.usdoj.gov/enrd/Consent_Decrees.html.

Russell Young,
Assistant Chief, Environmental Defense Section, Environment & Natural Resources Division.

[FR Doc. E8-7520 Filed 4-9-08; 8:45 am]

BILLING CODE 4410-15-M